DEPARTMENT OF DEFENSE

Department of the Air Force

Notice of Intent To Prepare an Environmental Impact Statement for Department of Defense Mission Closure at Johnston Atoll Airfield

Pursuant to the National Environmental Policy Act (NEPA) of 1969, as amended (42 United States Code 4321, et seq.), the Council on Environmental Quality (CEQ) Regulations for implementing the procedural provisions of NEPA (40 Code of Federal Regulations [CFR] parts 1500-1508), and Air Force policy and procedures (32 CFR 989), Detachment 1 of the 15 Air Base Wing (ABW) intends to prepare an Environmental Impact Statement (EIS) for the DoD mission closure of Johnston Atoll Airfield. Johnston Atoll (JA) is an unincorporated territory (i.e., possession) of the United States located approximately 717 nautical miles southwest of Honolulu, Hawaii, in the central Pacific Ocean. The Air Force and its implementing agent, Detachment 1, 15 ABW currently serves as the host-management agency for JA military missions. After December 31, 2003, no further military mission requirements have been identified for JA.

Detachment 1, 15 ABW will be the lead agency for the EIS. Since Honolulu is the closest population center to this remote Pacific atoll, Detachment 1, 15 ABW will conduct a Public Scoping Meeting, scheduled for November 6, 2002, in Honolulu, Hawaii at Washington Intermediate School, located at 1633 South King Street. The meeting's purpose is to determine the environmental issues and concerns to be analyzed, to solicit comments on the Proposed Action and alternatives, and to solicit input for other alternatives to be considered in the EIS.

The current proposal evaluates four alternatives—(1) No Action; (2) mission closure with declaration of excess to General Services Administration (GSA); (3) mission closure, but retain ownership of JA (do not excess property to GSA); and (4) caretaker status (mothball JA and retain for future missions). The Proposed Action is alternative (2); however, all comments received during the Scoping Meeting will be considered prior to the Air Force making a decision.

For further information concerning the DoD mission closure at JA or alternatives to the proposed action, please contact Ms. Fran Saunders, Chief, Johnston Atoll Program Office, OL-A, Detachment 1, 15 ABW, 200 Vickers Avenue, Bldg 1055, Hickam AFB, HI 96853-5271.

Pamela D. Fitzgerald,
Air Force Federal Register Liaison Officer.

[FR Doc. 02-28208 Filed 11-5-02; 8:45 am]

BILLING CODE 5001-5-P